ENVIRONMENTAL PROTECTION AGENCY

40 CFR Part 52

[MD112-3066a; FRL-7008-6]

Approval and Promulgation of Air Quality Implementation Plans; Maryland; Withdrawal of Direct Final Rule

AGENCY: Environmental Protection Agency (EPA).

ACTION: Withdrawal of direct final rule.

SUMMARY: Due to an adverse comment, EPA is withdrawing the direct final rule to approve reasonable available control technology (RACT) to limit volatile organic compound (VOC) emissions from distilled spirits facilities. In the direct final rule published on May 22, 2001 (66 FR 28058), we stated that if we received adverse comment by June 21, 2001, the rule would be withdrawn and not take effect. EPA received adverse comments on June 21, 2001. EPA will address the comments received in a subsequent final action based upon the proposed action also published on May 22, 2001 (66 FR 28138). EPA will not institute a second comment period on this action.

DATES: The Direct final rule published at 66 FR 28058, May 22, 2001, is withdrawn as of July 6, 2001.

FOR FURTHER INFORMATION CONTACT: Rose Quinto, Air Quality Planning & Information Services Branch, Mailcode 3AP21, US. Environmental Protection Agency, Region III, 1650 Arch Street, Philadelphia, Pennsylvania 19103. Phone (215) 814-2182.

List of Subjects in 40 CFR Part 52

Environmental protection, Air pollution control, Incorporation by reference, Intergovernmental relations, Ozone, Reporting and recordkeeping requirements.

Dated: June 27, 2001.
Thomas C. Voltaggio,
Acting Regional Administrator, Region III.

Accordingly, the direct final rule adding 40 CFR 52.1070(c)(160) is withdrawn as of July 6, 2001.

[FR Doc. 01-16950 Filed 7-5-01; 8:45 am]

BILLING CODE 6560-50-P